DEPARTMENT OF AGRICULTURE

Departmental Management; Public Meeting on Criteria for Eligibility for Participation in the BioPreferred® Program

AGENCY: Departmental Management, Office of Procurement and Property Management, USDA.

ACTION: Notice of public meeting.

SUMMARY: The Department of Agriculture (USDA) will hold a public meeting on August 1, 2014, beginning at 10:00 a.m. in Room 107A, Whitten Building and lasting until all comments are heard but not later than 5:00 p.m. for interested stakeholders to discuss the issue of incorporating previously excluded mature market products into the BioPreferred Program. USDA is seeking information from stakeholders on how to evaluate products for their eligibility to participate in the BioPreferred Program.

DATES: August 1, 2014.

Meeting Location: Room 107A, Whitten Building at the USDA, 1400 Independence Avenue SW., Washington, DC, 20024. Pre-registration for the meeting is not required but would be helpful, particularly if you wish to make a presentation. If you wish to register to attend please do so at this Web site: http://www.biopreferred.gov and state whether or not you wish to be recognized to make a formal presentation. The Whitten Building is located directly across from the USDA South Building, between 12th and 14th Streets, and Independence Avenue and Jefferson Drive. Enter through the Jefferson Drive entrance to the building. This is the entrance facing the National Mall.

Please have a driver's license or government issued Photo ID to present to building security. The nearest Metro station is “Smithsonian,” which is located at the Northeast corner of the South Building. Room 107-A is located on the first floor of the Whitten Building, adjacent to the large patio in the center of the building. Again, it is advisable that you register for the meeting even if you do not intend to speak as this approved list will be with the guards. Failure to register could result in your delayed entrance.

Those unable to attend the public meeting in person may listen to the meeting by calling 800-981-3173. The pass code is “6557”. Participants using the audio bridge may submit questions or comments during the meeting via biopreferred@usda.gov or at a webinar address, the exact link of which will be sent to participants via email after registering.

FOR FURTHER INFORMATION CONTACT: Ron Buckhalt, BioPreferred Program Manager, Department of Agriculture, Office of Procurement and Property Management, Reporters Building, Room 361, 300 7th Street SW., Washington, DC 20024, (202) 205-4008 or via email at RonB.Buckhalt@dm.usda.gov.

SUPPLEMENTARY INFORMATION: Section 9002 of the Farm Security and Rural Investment Act of 2002 (Pub. L. 107-171) established a program for the procurement of USDA designated biobased products by Federal agencies and a voluntary program for the labeling of USDA Certified Biobased Products. USDA refers to the Federal procurement preference program and the voluntary labeling program together as the BioPreferred® Program. The Food, Conservation, and Energy Act of 2008 (2008 Farm Bill) (Pub. L. 110-246) and the Agricultural Act of 2014 (2014 Farm Bill) (Pub. L. 113-79) continued the BioPreferred Program and made changes to the procedures for its implementation.

The 2014 Farm Bill amends Section 9002 to include a directive that the BioPreferred Program shall “promote biobased products, including forest products, that apply an innovative approach to growing, harvesting, sourcing, procuring, processing, manufacturing, or application of biobased products regardless of the date of entry into the marketplace.” Thus, products that were previously considered to be mature market products (those that had a significant market share prior to 1972) and were ineligible for the BioPreferred Program, will now be included in the program if manufacturers demonstrate that they apply an “innovative approach” in the life cycle of their product. Working in conjunction with the USDA Forest Products Laboratory, as required by the 2014 Farm Bill (Section 9002(h)), USDA is developing a process to evaluate the eligibility of biobased products for the BioPreferred Program based on the use of “innovative approaches” within the life cycle of the products.

USDA is holding a public meeting to gather input from interested stakeholders on “innovation.”

Dated: July 2, 2014.
Gregory L. Parham,
Assistant Secretary for Administration.

[FR Doc. 2014-16123 Filed 7-9-14; 8:45 am]

BILLING CODE 3410-93-P